DEPARTMENT OF HOUSING AND URBAN DEVELOPMENT

[Docket No. FR-5687-N-01]

Notice of Proposed Information Collection: Comment Request; Assisted Living Conversion Program (ALCP) for Eligible Multifamily Housing Projects and Emergency Capital Repair Program (ECRP)

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: March 19, 2013.

ADDRESSES: Interested persons are invited to submit comments regarding this proposal. Comments should refer to the proposal by name and/or OMB Control Number and should be sent to: Reports Liaison Officer, Department of Housing and Urban Development, 451 7th Street SW., Washington, DC 20410, Room 9120 or the number for the Federal Information Relay Service (1-800-877-8339)

FOR FURTHER INFORMATION CONTACT: Catherine Brennan, Director, Office of Housing Assistance and Grant Administration, Department of Housing and Urban Development, 451 7th Street SW., Washington, DC 20410, telephone (202) 708-3000, (this is not a toll free number) for copies of the proposed forms and other available information.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Assisted Living Conversion Program (ALCP) and Emergency Capital Repair Program (ECRP).

OMB Control Number, if applicable: 2502-0542.

Description of the need for the information and proposed use: The Assisted Living Conversion Program and the Emergency Capital Repair Program application submission requirements are necessary to assist HUD in determining an applicant's eligibility and the capacity to carry out a successful conversion of a project or make the necessary emergency repairs. A careful evaluation of the application is conducted to ensure that the Federal Government's interest is protected and to mitigate any possibilities of fraud, waste, or misuse of public funds. The purpose of collecting the application submission information is for the Department to assess the applicant's worthiness, whether the projects meet statutory and regulatory requirements, or make sound judgments regarding the potential risk to the Government.

Agency form numbers, if applicable: SF-424, SF-424-Supplemental, HUD-424-CB, HUD-424-CBW, SF-LLL, HUD-2880, HUD-2991, HUD-2530, HUD-96010, HUD-96011, HUD-50080-ALCP, SF-425, HUD-50080-ECRP, HUD-92045, HUD-92046, and HUD-92047.

Estimation of the total numbers of hours needed to prepare the information collection including number of respondents, frequency of response, and hours of response: The number of burden hours is 805. The number of respondents is 31, the number of responses is 532, and the frequency of response is on yearly basis for the ALCP and for the ECRP is on as-submitted basis until exhaustion of funds.

Status of the proposed information collection: Extension of a currently approved collection.

Authority: The Paperwork Reduction Act of 1995, 44 U.S.C. chapter 35, as amended.

Dated: January 15, 2013.
Laura M. Marin,
Acting General Deputy Assistant Secretary for Housing-Acting General Deputy Federal Housing Commissioner.

[FR Doc. 2013-01060 Filed 1-17-13; 8:45 am]

BILLING CODE 4210-67-P